DEPARTMENT OF VETERANS AFFAIRS

38 CFR Part 4

RIN 2900-AI44

Ankylosis and Limitation of Motion of Digits of the Hands

AGENCY: Department of Veterans Affairs.

ACTION: Final rule.

SUMMARY: This document amends the Department of Veterans Affairs (VA) Schedule for Rating Disabilities by revising the evaluation criteria for ankylosis and limitation of motion of the fingers and thumb in order to assure that veterans diagnosed with these conditions receive consistent evaluations.

DATES: Effective Date: This amendment is effective August 26, 2002.

FOR FURTHER INFORMATION CONTACT: Caroll McBrine, M.D., Consultant, Regulations Staff (211A), Compensation and Pension Service, Veterans Benefits Administration, Department of Veterans Affairs, 810 Vermont Ave., NW, Washington DC, 20420, (202) 273-7210.

SUPPLEMENTARY INFORMATION: As part of its review of the Schedule for Rating Disabilities (38 CFR part 4), VA published a proposal to amend that portion of the Schedule pertaining to ankylosis and limitation of motion of the fingers and thumb. The proposed rule was published in the Federal Register on November 2, 2001 (66 FR 55614). Interested persons were invited to submit written comments on or before January 2, 2002. We received one comment, from the Disabled American Veterans.

We proposed to change the name of the “middle finger” to “long finger” in the diagnostic codes pertaining to digit ankylosis and limitation of motion. The commenter suggested that we make the same change in diagnostic codes for finger amputations. In response, we have made that change. In addition, in current Plate III, one finger is labeled “middle finger,” and we will be revising that as part of the overall revision of the orthopedic system to “long finger”. Similarly, the commenter suggested that we change “median transverse fold of palm” to “proximal transverse crease of palm” in 38 CFR 4.71, as we proposed to do in § 4.71a. We have also made that change.

We proposed to evaluate an ankylosed digit as amputation when both joints are ankylosed, and either is in extension or “full” flexion. The commenter felt that the proposed ratings do not adequately provide for the disability that occurs when a finger ankylosed in flexion obstructs the other fingers and reduces the strength of the hand in gripping or grasping motions. The commenter expressed the belief that this disability is worse than an amputation and should receive a higher evaluation.

Digits that inhibit the use of other fingers are sometimes amputated if they inhibit hand function. Since 38 CFR 4.68, “Amputation rule,” however, prohibits an evaluation exceeding that which would be assigned if the finger were amputated, we have adopted another way of addressing this problem. In our judgment, if finger flexion deformity interferes with the function of other fingers or hand function overall, assessment of the other fingers or the hand overall should be taken into account in rating. This is both more appropriate than providing a higher evaluation for the ankylosed finger itself and consistent with the requirements of § 4.68. Provisions #2 and #5 of this portion of the rating schedule would apply in this situation. However, to assure that raters address any additional disability due to ankylosis of a single digit, we have revised the notes following the diagnostic codes for ankylosis of individual digits, which currently direct raters to consider rating as amputation, to read “Also consider whether evaluation as amputation is warranted and whether an additional evaluation is warranted for resulting limitation of motion of other digits or interference with overall function of the hand”. In our judgment, this will be sufficient to alert raters to the possibility of additional disability due to a single ankylosed digit.

VA appreciates the comment submitted in response to the proposed rule. Based on the rationale stated in the proposed rule and in this document, the proposed rule is adopted with the changes noted.

Paperwork Reduction Act

This document contains no provisions constituting a collection of information under the Paperwork Reduction Act (44 U.S.C. 3501-3520).

Regulatory Flexibility Act

The Secretary hereby certifies that this regulatory amendment will not have a significant economic impact on a substantial number of small entities as they are defined in the Regulatory Flexibility Act (RFA), 5 U.S.C. 601-612. The reason for this certification is that this amendment would not directly affect any small entities. Only VA beneficiaries could be directly affected. Therefore, pursuant to 5 U.S.C. 605(b), this amendment is exempt from the initial and final regulatory flexibility analysis requirements of sections 603 and 604.

Executive Order 12866

This regulatory amendment has been reviewed by the Office of Management and Budget under the provisions of Executive Order 12866, Regulatory Planning and Review, dated September 30, 1993.

The Catalog of Federal Domestic Assistance program numbers are 64.104 and 64.109.

List of Subjects in 38 CFR Part 4

Disability benefits, Individuals with disabilities, Pensions, Veterans.

Approved: May 16, 2002.
Anthony J. Principi,
Secretary of Veterans Affairs.

For the reasons set out in the preamble, 38 CFR part 4, subpart B, is amended as set forth below:

PART 4—SCHEDULE FOR RATING DISABILITIES

Subpart B—Disability Ratings

1. The authority citation for part 4 continues to read as follows:

Authority: 38 U.S.C. 1155, unless otherwise noted.

2. In § 4.71, last sentence, remove “median transverse fold of the palm” and add, in its place, “proximal transverse crease of palm”.

3. In § 4.71a under the tables MULTIPLE FINGER AMPUTATIONS and SINGLE FINGER AMPUTATIONS, remove “middle” every place it occurs and add in each place “long”.

4. Section 4.71a is amended by removing the tables “MULTIPLE FINGERS: UNFAVORABLE ANKYLOSIS”; MULTIPLE FINGERS: FAVORABLE ANKYLOSIS”; and ANKYLOSIS OF INDIVIDUAL FINGERS” and adding, in their place, the following table to read as follows:

§ 4.71a Schedule of ratings—musculoskeletal system.

* * * * *

Evaluation of Ankylosis or Limitation of Motion of Single or Multiple Digits of the Hand
| Rating: Major | Rating: Minor
(1) For the index, long, ring, and little fingers (digits II, III, IV, and V), zero degrees of flexion represents the fingers fully extended, making a straight line with the rest of the hand. The position of function of the hand is with the wrist dorsiflexed 20 to 30 degrees, the metacarpophalangeal and proximal interphalangeal joints flexed to 30 degrees, and the thumb (digit I) abducted and rotated so that the thumb pad faces the finger pads. Only joints in these positions are considered to be in favorable position. For digits II through V, the metacarpophalangeal joint has a range of zero to 90 degrees of flexion, the proximal interphalangeal joint has a range of zero to 100 degrees of flexion, and the distal (terminal) interphalangeal joint has a range of zero to 70 or 80 degrees of flexion |  |
(2) When two or more digits of the same hand are affected by any combination of amputation, ankylosis, or limitation of motion that is not otherwise specified in the rating schedule, the evaluation level assigned will be that which best represents the overall disability (i.e., amputation, unfavorable or favorable ankylosis, or limitation of motion), assigning the higher level of evaluation when the level of disability is equally balanced between one level and the next higher level |  |
(3) Evaluation of ankylosis of the index, long, ring, and little fingers:
(i) If both the metacarpophalangeal and proximal interphalangeal joints of a digit are ankylosed, and either is in extension or full flexion, or there is rotation or angulation of a bone, evaluate as amputation without metacarpal resection, at proximal interphalangeal joint or proximal thereto |  |
(ii) If both the metacarpophalangeal and proximal interphalangeal joints of a digit are ankylosed, evaluate as unfavorable ankylosis, even if each joint is individually fixed in a favorable position
(iii) If only the metacarpophalangeal or proximal interphalangeal joint is ankylosed, and there is a gap of more than two inches (5.1 cm.) between the fingertip(s) and the proximal transverse crease of the palm, with the finger(s) flexed to the extent possible, evaluate as unfavorable ankylosis |  |
(iv) If only the metacarpophalangeal or proximal interphalangeal joint is ankylosed, and there is a gap of two inches (5.1 cm.) or less between the fingertip(s) and the proximal transverse crease of the palm, with the finger(s) flexed to the extent possible, evaluate as favorable ankylosis |  |
(4) Evaluation of ankylosis of the thumb:
(i) If both the carpometacarpal and interphalangeal joints are ankylosed, and either is in extension or full flexion, or there is rotation or angulation of a bone, evaluate as amputation at metacarpophalangeal joint or through proximal phalanx |  |
(ii) If both the carpometacarpal and interphalangeal joints are ankylosed, evaluate as unfavorable ankylosis, even if each joint is individually fixed in a favorable position |  |
(iii) If only the carpometacarpal or interphalangeal joint is ankylosed, and there is a gap of more than two inches (5.1 cm.) between the thumb pad and the fingers, with the thumb attempting to oppose the fingers, evaluate as unfavorable ankylosis |  |
(iv) If only the carpometacarpal or interphalangeal joint is ankylosed, and there is a gap of two inches (5.1 cm.) or less between the thumb pad and the fingers, with the thumb attempting to oppose the fingers, evaluate as favorable ankylosis |  |
(5) If there is limitation of motion of two or more digits, evaluate each digit separately and combine the evaluations |  |
I. Multiple Digits: Unfavorable Ankylosis
5216 Five digits of one hand, unfavorable ankylosis of | 60 | 50
Note: Also consider whether evaluation as amputation is warranted.
5217 Four digits of one hand, unfavorable ankylosis of:
Thumb and any three fingers | 60 | 50
Index, long, ring, and little fingers | 50 | 40
Note: Also consider whether evaluation as amputation is warranted.
5218 Three digits of one hand, unfavorable ankylosis of:
Thumb and any two fingers | 50 | 40
Index, long, and ring; index, long, and little; or index, ring, and little fingers | 40 | 30
Long, ring, and little fingers | 30 | 20
Note: Also consider whether evaluation as amputation is warranted.
5219 Two digits of one hand, unfavorable ankylosis of:
Thumb and any finger | 40 | 30
Index and long; index and ring; or index and little fingers | 30 | 20
Long and ring; long and little; or ring and little fingers | 20 | 20
Note: Also consider whether evaluation as amputation is warranted.
II. Multiple Digits: Favorable Ankylosis
5220 Five digits of one hand, favorable ankylosis of | 50 | 40
5221 Four digits of one hand, favorable ankylosis of:
Thumb and any three fingers | 50 | 40
Index, long, ring, and little fingers | 40 | 30
5222 Three digits of one hand, favorable ankylosis of:
Thumb and any two fingers | 40 | 30
Index, long, and ring; index, long, and little; or index, ring, and little fingers | 30 | 20
Long, ring and little fingers | 20 | 20
5223 Two digits of one hand, favorable ankylosis of:
Thumb and any finger | 30 | 20
Index and long; index and ring; or index and little fingers | 20 | 20
Long and ring; long and little; or ring and little fingers | 10 | 10
III. Ankylosis of Individual Digits
5224 Thumb, ankylosis of:
Unfavorable | 20 | 20
Favorable | 10 | 10
Note: Also consider whether evaluation as amputation is warranted and whether an additional evaluation is warranted for resulting limitation of motion of other digits or interference with overall function of the hand.
5225 Index finger, ankylosis of:
Unfavorable or favorable | 10 | 10
Note: Also consider whether evaluation as amputation is warranted and whether an additional evaluation is warranted for resulting limitation of motion of other digits or interference with overall function of the hand.
5226 Long finger, ankylosis of:
Unfavorable or favorable | 10 | 10
Note: Also consider whether evaluation as amputation is warranted and whether an additional evaluation is warranted for resulting limitation of motion of other digits or interference with overall function of the hand.
5227 Ring or little finger, ankylosis of:
Unfavorable or favorable | 0 | 0
Note: Also consider whether evaluation as amputation is warranted and whether an additional evaluation is warranted for resulting limitation of motion of other digits or interference with overall function of the hand.
IV. Limitation of Motion of Individual Digits
5228 Thumb, limitation of motion:
With a gap of more than two inches (5.1 cm.) between the thumb pad and the fingers, with the thumb attempting to oppose the fingers | 20 | 20
With a gap of one to two inches (2.5 to 5.1 cm.) between the thumb pad and the fingers, with the thumb attempting to oppose the fingers | 10 | 10
With a gap of less than one inch (2.5 cm.) between the thumb pad and the fingers, with the thumb attempting to oppose the fingers | 0 | 0
5229 Index or long finger, limitation of motion:
With a gap of one inch (2.5 cm.) or more between the fingertip and the proximal transverse crease of the palm, with the finger flexed to the extent possible, or; with extension limited by more than 30 degrees | 10 | 10
With a gap of less than one inch (2.5 cm.) between the fingertip and the proximal transverse crease of the palm, with the finger flexed to the extent possible, and; extension is limited by no more than 30 degrees | 0 | 0
5230 Ring or little finger, limitation of motion:
Any limitation of motion | 0 | 0

* * * * *

(Authority: 38 U.S.C. 1155)

[FR Doc. 02-18965 Filed 7-25-02; 8:45 am]

BILLING CODE 8320-01-P